COMMITTEE FOR THE IMPLEMENTATION OF TEXTILE AGREEMENTS

Extension of Period of Determination on Request for Textile and Apparel Safeguard Action on Imports from China

July 25, 2005.

AGENCY: The Committee for the Implementation of Textile Agreements (the Committee)

ACTION: Notice

SUMMARY: The Committee is extending through July 31, 2005, the period for making a determination on whether to request consultations with China regarding imports of men's and boys' wool trousers (Category 447).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

BACKGROUND:

On November 12, 2004, the Committee received a request from the American Manufacturing Trade Action Coalition, the National Council of Textile Organizations, the National Textile Association, SEAMS and UNITE HERE requesting that the Committee limit imports from China of men's and boys' wool trousers (Category 447) due to the threat of market disruption.

The Committee determined this request provided the information necessary for the Committee to consider the request and solicited public comments for a period of 30 days. See Solicitation of Public Comment on Request for Textile and Apparel Action on Imports from China, 69 FR 71781 (Dec. 10, 2004).

On December 30, 2004, the Court of International Trade preliminarily enjoined the Committee from considering or taking any further action on this request and any other requests “that are based on the threat of market disruption”. U.S. Association of Importers of Textiles and Apparel v. United States, 350 F. Supp. 2d 1342 (CIT 2004). On April 27, 2005 the Court of Appeals for the Federal Circuit granted the U.S. government's motion for a stay and reversed that injunction. U.S. Association of Importers of Textiles and Apparel v. United States, Ct. No. 05-1209, 2005 U.S. App. LEXIS 12751 (Fed. Cir. June 28, 2005). Thus, CITA resumed consideration of this case.

The public comment period for this request had not yet closed when the injunction took effect on December 30, 2004. The number of calendar days remaining in the public comment period beginning with and including December 30, 2004 was 12 days. On May 9, 2005, therefore, the Committee published a notice in the Federal Register re-opening the comment period and inviting public comments to be received not later than May 23, 2005. See Rescheduling of Consideration of Request for Textile and Apparel Safeguard Action on Imports from China and Solicitations of Public Comments, 70 FR 24397 (May 9, 2005).

The Committee's Procedures, 68 FR 27787 (May 21, 2003) state that the Committee will make a determination within 60 calendar days of the close of the public comment period as to whether the United States will request consultations with China. If the Committee is unable to make a determination within 60 calendar days, it will cause to be published a notice in the Federal Register, including the date by which it will make a determination.

The 60 day determination period for the threat case expired on July 22, 2005. However, the Committee is unable to make a determination at this time; it is continuing to evaluate conditions in the U.S. market for men's and boys' wool trousers and information obtained from public comments on the case. The Committee is therefore extending the determination period to July 31, 2005. The Committee may, at its discretion, make such determination prior to July 31, 2005.

James C. Leonard III,
Chairman, Committee for the Implementation of Textile Agreements.

[FR Doc.05-14953 Filed 7-25-05; 1:37 pm]

BILLING CODE 3510-DS-P